DEPARTMENT OF DEFENSE

Department of the Navy

Notice of Availability of the Fiscal Year 2008 Department of Navy Services Contract Inventory Pursuant to Section 807 of the National Defense Authorization Act for Fiscal Year 2008

AGENCY: Department of the Navy, DOD.

ACTION: Notice of Publication.

SUMMARY: In accordance with section 2330a of Title 10 United States Code as amended by the National Defense Authorization Act (NDAA) for Fiscal Year 2008 (FY 08) section 807, the Deputy Assistant Secretary of the Navy (DASN) for Acquisition and Logistics Management (A&LM) and the Office of the Director, Defense Procurement and Acquisition Policy (DPAP) will make available, to the public, an inventory of activities performed pursuant to contracts for services. The inventory will be published to the ASN (RDA) Web site at the following location: https://acquisition.navy.mil/NDAAsection807.

DATES: Inventory is to be made publically available not later than 30 days after August 4, 2009—the date which the DON inventory report was submitted to Congress.

ADDRESSES: Send written comments and suggestions concerning the inventory to the Deputy Assistant Secretary of the Navy for Acquisition and Logistics Management, 1000 Navy Pentagon, Suite BF-992, Washington DC 20350-1000.

FOR FURTHER INFORMATION CONTACT: Mr. Roger Yee, Strategic Sourcing, (703) 693-4019 or e-mail at Roger.Yee@navy.mil.

SUPPLEMENTARY INFORMATION: The FY08 NDAA section 807 amends section 2330a of Title 10 United States Code to require annual inventories and reviews of activities performed on services contracts. The Deputy Under Secretary of Defense (Acquisition and Technology) (DUSD(AT)) transmitted the Department of Navy inventory to Congress on August 4, 2009.

The Office of the DASN (A&LM) submitted the Department of Navy Fiscal Year 2008 Services Contract Inventory to the Office of the DPAPSS on June 30, 2009. Included with this inventory was a narrative that described the data collection process, the inventory data, and the on-going inventory review process. The inventory included such information as: calculated contractor full time equivalents; and, contract costs by organization, location, function, contract type, and funding source. The full report is located at the following Web site: https://acquisition.navy.mil/NDAAsection807. The inventory did not include specific contract numbers, contractor identification or proprietary or sensitive information.

Authority: 10 U.S.C. 2330a, part 137.

Dated: August 31, 2009.
T. M. Cruz,
Lieutenant Commander, Judge Advocate General's Corps, U.S. Navy, Alternate Federal Register Liaison Officer.

[FR Doc. E9-21474 Filed 9-4-09; 8:45 am]

BILLING CODE 3810-FF-P